DELAWARE RIVER BASIN COMMISSION

Notice of Commission Meeting and Public Hearing

Notice is hereby given that the Delaware River Basin Commission will hold an informal conference followed by a public hearing on Wednesday, May 10, 2006. The hearing will be part of the Commission's regular business meeting. Both the conference session and business meeting are open to the public and will be held at the Commission's office building, located at 25 State Police Drive in West Trenton, New Jersey.

The conference among the commissioners and staff will begin at 10:15 a.m. Topics of discussion will include presentations by guest speakers on the Philadelphia Tidal Delaware Initiative; proposed adoption of a records retention schedule developed with the assistance of the New Jersey Division of Archives and Records Management; a progress report on PCB TMDL development, including a report on meetings of the Commission's Toxics Advisory Committee and PCB Expert Panel in March of 2006; a report on a joint meeting of the DRBC Water Quality and Water Management Advisory committees to discuss updating the memoranda of agreement between DRBC and its member states governing project review in accordance with Section 3.8 of the Delaware River Basin Compact; and a presentation on a stormwater retrofit plan for the site of the Commission's office building.

The subjects of the public hearing to be held during the 1:30 p.m. business meeting include the dockets listed below:

1. Maidencreek Township Authority D-91-58 CP-3. An application for approval of a ground water withdrawal project to supply up to 5.7 million gallons per thirty days (mg/30 days) of water to the applicant's public water supply distribution system from new Well No. 5 in the Allentown Formation, and to retain the existing withdrawal from all wells of 22.7 mg/30 days. Well No. 5 is proposed as a redundant source to provide flexibility and reliability in operation of the applicant's public water supply distribution system. The project is located in the Maiden Creek Watershed in Maidencreek Township, Berks County, Pennsylvania.

2. Old York Country Club D-95-3-2. An application for the renewal of a ground and surface water withdrawal project to continue withdrawal of up to 8 mg/30 days to supply the applicant's golf course irrigation system and potable water supply from existing Wells Nos. 1 and 2 in the Magothy Formation and two man-made storage reservoirs fed by a wet well and stormwater. The project is located in the Blacks Creek Watershed in Chesterfield Township, Burlington County, New Jersey.

3. Bridgeport Disposal, LLC D-72-49-2. An application for approval of a ground water and surface water withdrawal project to supply up to 0.05 mg/30 days of water from a surface water intake on Raccoon Creek, up to 17.86 mg/30 days from 21 remediation wells in the Raritan-Magothy Formation and up to 17.91 mg/30 days from both combined sources. The requested allocation represents a decrease from the existing allocation of 1.44 mg/30 days for the surface water withdrawal and an increase from the existing allocation of 4.5 mg/30 days for the ground water withdrawal. The project is located in the Raccoon Creek Watershed in Logan Township, Gloucester County, New Jersey.

4. Borough of Boyertown D-73-199 CP-2. An application to modify the outfall location for the docket holder's existing wastewater treatment plant (WWTP). The outfall was moved from unnamed tributary 01337 (UNT) to Swamp Creek. The docket holder relocated the outfall in order to avert toxics monitoring on the impaired UNT. The construction of the relocated outfall was completed in November 2000. The WWTP discharges approximately 750,000 gpd to Swamp Creek, a tributary of Perkiomen Creek, which is a tributary to the Schuylkill River. The facility is located in Douglass Township, Montgomery County, Pennsylvania.

5. Fleetwood Borough Authority D-87-54 CP-2. An application to expand a 0.5 mgd WWTP to treat an average flow of 0.7 mgd, while continuing to provide secondary treatment. The WWTP is located off Walnuttown Road in Richmond Township, Berks County, Pennsylvania. The plant currently serves the predominantly residential area of Fleetwood Borough only. However, part of the proposed additional capacity is needed to serve a portion of Richmond Township. The WWTP will continue to discharge to Willow Creek, a tributary of Maiden Creek in the Schuylkill River Watershed.

6. Giorgio Foods, Inc. D-88-43-2. An application to modify the docket holder's existing food processing industrial wastewater treatment plant (IWTP) by the addition of a forced draft cooling tower along with temperature controller/recorders, cooling tower pumps and recirculation pumps. The modifications are being undertaken to meet new effluent temperature requirements. The IWTP discharges approximately 500,000 gpd to Willow Creek, a tributary of Maiden Creek, which is a tributary to the Schuylkill River. The facility is located in Maidencreek Township, Berks County, Pennsylvania.

7. Gloucester County Utilities Authority D-90-74 CP-2. An application for approval of a WWTP rerate project from 24.1 mgd to 27 mgd. The WWTP effluent will be discharged to the Delaware River in Water Quality Zone 4. The project is located in West Deptford Township, Gloucester County, New Jersey. The WWTP will continue to serve Clayton Borough, Deptford Township, Glassboro Borough, Mantua Township, Monroe Township, National Park Borough, Paulsboro Borough, Pitman Borough, Washington Township, Wenonah Borough, West Deptford Township, Westville Borough, Woodbury City and Woodbury Heights Borough, all in Gloucester County.

8. Brodhead Creek Regional Authority D-91-1 CP-2. An application for the renewal of a ground and surface water withdrawal project to add new Well No. 3 in the Buttermilk Falls Formation to the distribution system with an allocation not to exceed 28.94 mg/30 days and to limit the total withdrawal from new Well No. 3 and existing Wells PW-1 and PW-2 in the Marrellus Formation to 114.94 mg/30 days and to limit the existing surface water intakes in the Brodhead Creek and the Stokes Mill Spring to 126 mg/30 days to supply the applicant's public supply distribution system. The project is located in the Brodhead Creek Watershed in Stroud Township, Monroe County, Pennsylvania.

9. Bernville Corp. D-92-27-2. An application for the renewal of a ground water withdrawal project and for an increase in allocation from 4.5 mg/30 days to 8.3 mg/30 days to supply the applicant's golf course from an existing intake in the Tulpehocken Creek. The project is located in the Tulpehocken Creek Watershed in Jefferson Township, North Heidelberg Township, Berks County, Pennsylvania.

10. The Premcor Refining Group, Inc. D-93-4-4. An application for the renewal of a ground water withdrawal project to increase withdrawal from 180 mg/30 days to 192.96 mg/30 days to supply the applicant's refinery and electric generating station from existing Wells Nos. P-1A, P-3A, P-4A, P-5B, P-6A, P-9A, P-10A, R-15 and P-16A in the Upper, Middle and Lower Potomac formations and to increase the allocation for the Delaware River intake from the existing allocation of 13,560 mg/30 days to 13,570.6 mg/30 days, and to incorporate 2 existing pre-Compact surface water withdrawals in the Red Lion Creek and Dragon Run with allocations of 38.9 mg/30 days and 48.62 mg/30 days, respectively. The project is located in the C&D Canal East, Dragon Run Creek and Red Lion Creek watersheds in Delaware City, New Castle County, Delaware.

11. New Castle County Department of Special Services D-93-6 CP-2. An application to upgrade and expand a 1.7 mgd WWTP to treat 2.5 mgd via chemical addition and Sequential Batch Reactor processes. The project is located off Old Corbit Road just east of the Town of Odessa along the tidal Appoquinimink River in DRBC Water Quality Zone 5 and will continue to serve the Middletown-Odessa-Townsend area of southern New Castle County, Delaware. The WWTP will continue to discharge a portion of its effluent to a tributary of the Appoquinimink River and up to 1.08 mgd will continue to be discharged to adjacent spray application fields. The Appoquinimink River is a tributary of the Delaware River and is the subject of a U.S. EPA and Delaware DNREC Total Maximum Daily Load study. The proposed upgrade of the WWTP is needed to produce a higher quality effluent in order to meet more stringent NPDES permit limits.

12. Logan Township Municipal Utilities Authority D-95-7 CP-2. An application to expand a 2 million gallon per day (mgd) sewage treatment plant (STP) to process 2.75 mgd, while continuing to provide secondary level treatment. The project is located in Logan Township, Gloucester County, New Jersey approximately 200 feet west of High Hills Road and just south of the railroad right-of-way through Maple Swamp. Due to high quality treatment processes, the applicant proposes to meet stringent NPDES permit limits regarding effluent loadings and concentrations. The project effluent will continue to discharge to the Delaware River in Water Quality Zone 4 via an existing outfall, which is shared with Ferro Corporation, formerly owned by Monsanto Chemical Company.

13. Richland Township Water Authority D-96-44 CP-2. An application for approval of a ground water withdrawal project to supply up to 2.25 mg/30 days of water to the applicant's public water supply distribution system from Wells Nos. 2, 3 and 4, recently purchased from Melody Lakes Properties, and to increase the total combined withdrawal from these wells and the existing Richland Township Water Authority wells to 31.55 mg/30 days. While this represents an increase in allocation to the Richland Township Water Authority, it does not represent an increase in withdrawals from the watershed since both the Melody Lakes project allocation and the existing Richland Township Water Authority allocation are located in the Tohickon Creek Watershed. The project is located in the Brunswick Formation in Richland Township, Bucks County, Pennsylvania and is located in the Southeastern Pennsylvania Ground Water Protected Area.

14. Sanofi Pasteur, Inc. D-99-71-2. An application to expand the applicant's existing IWTP from 0.35 mgd to 0.95 mgd and to increase the discharge to Swiftwater Creek from 0.35 mgd to 0.55 mgd. Beginning in 2007, wastewater will be treated via Sanofi Pasteur's (Sanofi's) existing IWTP, rerated to process 0.45 mgd, and disposed through a combination of landscape irrigation (up to 0.045 mgd), discharge to Swiftwater Creek (0.45 mgd) and wastewater reuse. Beginning in 2008, wastewater will be treated via Sanofi's upgraded IWTP and disposed through a combination of land application (up to 0.245 mgd), discharge to Swiftwater Creek (up to 0.55 mgd), and wastewater reuse. Beginning in 2010, wastewater will be treated via Sanofi's upgraded IWTP and disposed through a combination of land application (up to 0.245 mgd), discharge to Swiftwater Creek (up to 0.55 mgd), use of the proposed Pocono Township Wastewater Treatment Plant (up to 0.35 mgd), and wastewater reuse. The application is for a discharge of 0.55 mgd to Swiftwater Creek, a tributary to the Brodhead Creek. The facility is located in Pocono Township, Monroe County, Pennsylvania.

15. Artesian Water Company, Inc. D-2003-22 CP-2. An application for approval of a ground water withdrawal project to supply up to 4.32 mg/30 days of water to the applicant's public water supply distribution system from replacement Well No. 1R in the Upper Mt. Laurel Formation in the Bayview Wellfield and to retain the existing withdrawal of 150 mg/30 days from the applicant's nine (9) wellfields supplying the Southern New Castle County distribution system. The project is located in the C&D Canal East Watershed in New Castle County, Delaware.

16. Alcoa Extrusions, Inc. D-2005-1-2. An application to increase the average and maximum discharge concentration of total dissolved solids (TDS) from 1,000 milligrams per liter (mg/l) to 2,000 mg/l and 4,000 milligrams per liter, respectively. The discharge will be made via an existing outfall to the West Branch Schuylkill River. In support of the requested modification, the docket holder has submitted an analysis concluding that the increased solids concentrations will cause no adverse effect on the downstream aquatic community, nor will they threaten potable water supply intakes located over 65 river miles downstream of the confluence of the West Branch Schuylkill River with the main stem Schuylkill River. No expansion of the treatment facility is proposed. The proposed modifications are attributable to installation of a new reverse osmosis treatment system that will reduce water consumption at the facility but will generate a concentrated waste stream during operation. The treatment facility is located in Cressona Borough, Schuylkill County, Pennsylvania.

17. Pierson-Gaskill Golf Properties, Inc. D-2000-49. An application for approval of a ground water withdrawal project to supply up to 4.24 mg/30 days of water to the applicant's Town & Country Golf Links golf course irrigation system from new Wells Nos. 1 and 2 in the Mt. Laurel/Wenonah Aquifer and up to 8 mg/30 days from one intake in an irrigation pond and to limit the withdrawal from all sources to 8 mg/30 days. The project is located in Pilesgrove Township, Salem County, New Jersey.

18. New Egypt Speedway D-2006-1-1. An application for approval of a ground and surface water withdrawal and importation project to supply less than 3.1 mg/30 days of water to the applicant's automobile racing track from the Pond Well, Office Well and Pond Intake. The Pond Well and Pond Intake are located in the Atlantic Basin. The Office Well is located in the Mt. Laurel-Wenonah Formation in the Crosswicks Creek Watershed in Plumsted Township, Ocean County, New Jersey.

19. Schering Corporation D-2006-2-1. An application for approval of a ground water withdrawal project to supply up to 4.0 mg/30 days of water to the applicant's pharmaceutical research facility from existing Wells Nos. 1, 2, 3, 4, 5, 6 and 7 and new Wells Nos. 9, 10, 11 and 12. The project is located in the Kittatinny Aquifer in the Paulins Kill River Watershed in Lafayette Township, Sussex County, New Jersey.

20. Surfside Products, LLC D-2006-3-1. An application for approval of an existing 50,000 gallon per day (gpd) discharge of treated industrial wastewater generated by clam processing. The IWTP discharges approximately 50,000 gpd to the Maurice River, tributary to Delaware Bay. The facility is located in Commercial Township, Cumberland County, New Jersey.

21. Sussex County Municipal Utilities Authority D-2006-6 CP-1. An application for the approval of an existing 50,000 gallons per day (gpd) discharge from the Hampton Commons wastewater treatment facility. The wastewater treatment facility discharges to Marsh's Farm Creek, a tributary to the Paulins Kill River. The facility is located in Hampton Township, Sussex County, New Jersey.

In addition to the public hearing on the dockets listed above, the Commission's 1:30 p.m. business meeting will include a public hearing on a proposed resolution establishing a Pollutant Minimization Plan Peer Review Advisory Committee; a resolution establishing a DRBC Finance Advisory Committee to be composed of representatives of each of the signatory parties for the purpose of developing recommendations for maintaining the financial stability of the Commission; a resolution authorizing the Executive Director to contract for fish tissue analysis; a resolution for the minutes authorizing the Executive Director to enter into a professional services contract for evaluation of the mechanical and electrical systems of the Commission's office building in order to identify and evaluate opportunities for improving efficiency and reducing cost; a resolution for the minutes amending the Administrative Manual: Bylaws, Management and Personnel to provide for greater flexibility in establishing vacation credits awarded to new hires for senior management positions; and a resolution providing for election of the Commission Chair, Vice Chair and Second Vice Chair for the year 2006-2007, commencing July 1, 2006.

The meeting will also include: adoption of the Minutes of the March 1, 2006 business meeting; announcements; a report on basin hydrologic conditions; a report by the executive director; a report by the Commission's general counsel; and an opportunity for public dialogue. Draft dockets and the resolutions scheduled for public hearing on May 10, 2006 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: April 18, 2006.
Pamela M. Bush,
Commission Secretary.

[FR Doc. E6-6124 Filed 4-24-06; 8:45 am]

BILLING CODE 6360-01-P